DEPARTMENT OF TRANSPORTATION

Federal Aviation Administration

14 CFR Part 39

[Docket No. 2000-CE-38-AD; Amendment 39-13928; AD 2005-01-04]

RIN 2120-AA64

Airworthiness Directives; Raytheon Aircraft Company 90, 99, 100, 200, and 300 Series Airplanes

AGENCY: Federal Aviation Administration, DOT.

ACTION: Final rule; correction.

SUMMARY: This document makes a correction to Airworthiness Directive (AD) 2005-01-04, which was published in the Federal Register on January 6, 2005 (70 FR 1169) and applies to certain Raytheon Aircraft Company 90, 99, 100, 200, and 300 series airplanes. We incorrectly referenced an airplane model number in the applicability section of this AD. This action corrects the applicability section of AD 2005-01-04, Amendment 39-13928.

EFFECTIVE DATE: The effective date of this AD remains January 6, 2005.

FOR FURTHER INFORMATION CONTACT: Jeffrey A. Pretz, Aerospace Engineer, ACE-116W, 1801 Airport Road, Room 100, Wichita, Kansas 67209; telephone: (316) 946-4153; facsimile: (316) 946-4407.

SUPPLEMENTARY INFORMATION:

Discussion

On December 27, 2004, FAA issued AD 2005-01-04, Amendment 39-13928 (70 FR 1169, January 6, 2005), which applies to certain Raytheon Aircraft Company 90, 99, 100, 200, and 300 series airplanes. That AD requires you to check the airplane maintenance records from January 1, 1994, up to and including the effective date of that AD, for any MIL-H-6000B fuel hose replacements on the affected airplanes; inspecting any replaced rubber fuel hose for a spiral or diagonal external wrap with a red or orange-red stripe along the length of the hose with 94519 printed along the stripe; and replacing any MIL-H-6000B rubber fuel hose matching this description with an FAA-approved hose having a criss-cross or braided external wrap.

Need for the Correction

The FAA incorrectly referenced airplane model number C90B in the applicability section of the original AD. Model C90B should be changed to read C90A. This correction is needed to prevent confusion in the field regarding the applicability of this AD.

Correction of Publication

Accordingly, the publication of January 6, 2005 (70 FR 1169), of Amendment 39-13928; AD 2005-01-04, which was the subject of FR Doc. 05-35, is corrected as follows:

§ 39.13 [Corrected]

On page 1171, in section 39.13 [Amended], 2., paragraph (c) (6) of the AD, change reference from C90B to C90A.

Action is taken herein to correct this reference in AD 2005-01-04 and to add this AD correction to section 39.13 of the Federal Aviation Regulations (14 CFR 39.13).

The effective date remains January 6, 2005.

Issued in Kansas City, Missouri, on January 20, 2005.
David A. Downey,
Acting Manager, Small Airplane Directorate, Aircraft Certification Service.

[FR Doc. 05-1513 Filed 1-26-05; 8:45 am]

BILLING CODE 4910-13-P